DEPARTMENT OF ENERGY

Federal Energy Regulatory Commission

Combined Notice of Filings #1

Take notice that the Commission received the following electric corporate filings:

Docket Numbers: EC22-116-000.

Applicants: Evergy Missouri West, Inc., Persimmon Creek Wind Farm 1, LLC.

Description: Joint Application for Authorization Under Section 203 of the Federal Power Act of Evergy Missouri West, Inc., et al.

Filed Date: 9/1/22.

Accession Number: 20220901-5174.

Comment Date: 5 p.m. ET 9/22/22.

Take notice that the Commission received the following exempt wholesale generator filings:

Docket Numbers: EG22-213-000.

Applicants: BT Cunningham Storage, LLC.

Description: BT Cunningham Storage, LLC submits Notice of Self-Certification of Exempt Wholesale Generator Status.

Filed Date: 8/31/22.

Accession Number: 20220831-5157.

Comment Date: 5 p.m. ET 9/21/22.

Take notice that the Commission received the following electric rate filings:

Docket Numbers: ER22-2758-000.

Applicants: Duke Energy Florida, LLC.

Description: § 205(d) Rate Filing: DEF- Mt. Dora Reimbursement Agreement RS No. 366 to be effective 10/31/2022.

Filed Date: 8/31/22.

Accession Number: 20220831-5160.

Comment Date: 5 p.m. ET 9/21/22.

Docket Numbers: ER22-2759-000.

Applicants: Eastman Cogeneration LP.

Description: Market: Update of Market-Based Rate Tariff and Triennial Market Power Analysis to be effective 9/2/2022.

Filed Date: 8/31/22.

Accession Number: 20220831-5161.

Comment Date: 5 p.m. ET 9/21/22.

Docket Numbers: ER22-2760-000.

Applicants: Public Service Company of New Mexico.

Description: § 205(d) Rate Filing: Modifications P0695 and Operating Agreement to be effective 9/1/2022.

Filed Date: 8/31/22.

Accession Number: 20220831-5169.

Comment Date: 5 p.m. ET 9/21/22.

Docket Numbers: ER22-2761-000.

Applicants: Public Service Company of Colorado.

Description: § 205(d) Rate Filing: 2022-08-31 Grand Valley-SISA-(T-2022-3)-717-0.0.0 to be effective 9/1/2022.

Filed Date: 8/31/22.

Accession Number: 20220831-5184.

Comment Date: 5 p.m. ET 9/21/22.

Docket Numbers: ER22-2762-000.

Applicants: Northwest Power Pool.

Description: Baseline eTariff Filing: Western Power Pool Western Resource Adequacy Program Tariff to be effective 12/12/2022.

Filed Date: 8/31/22.

Accession Number: 20220831-5189.

Comment Date: 5 p.m. ET 9/30/22.

Docket Numbers: ER22-2763-000.

Applicants: Entergy Louisiana, LLC.

Description: § 205(d) Rate Filing: ELL LCPS Reactive to be effective 11/1/2022.

Filed Date: 8/31/22.

Accession Number: 20220831-5193.

Comment Date: 5 p.m. ET 9/21/22.

Docket Numbers: ER22-2764-000.

Applicants: PJM Interconnection, L.L.C.

Description: § 205(d) Rate Filing: Revisions to Attachment X re to be effective 11/1/2022.

Filed Date: 9/1/22.

Accession Number: 20220901-5050.

Comment Date: 5 p.m. ET 9/22/22.

Docket Numbers: ER22-2765-000.

Applicants: Avista Corporation.

Description: § 205(d) Rate Filing: Avista Corp FERC RS T1198 GB Energy Park LGIA Cert of Concurrence to be effective 8/22/2022.

Filed Date: 9/1/22.

Accession Number: 20220901-5076.

Comment Date: 5 p.m. ET 9/22/22.

Docket Numbers: ER22-2766-000.

Applicants: PJM Interconnection, L.L.C.

Description: § 205(d) Rate Filing: ISA, SA No. 6578; Queue No. AD1-088/AE2-182 to be effective 8/3/2022.

Filed Date: 9/1/22.

Accession Number: 20220901-5093.

Comment Date: 5 p.m. ET 9/22/22.

Docket Numbers: ER22-2767-000.

Applicants: PJM Interconnection, L.L.C.

Description: § 205(d) Rate Filing: Original WMPA, SA No. 6580; Queue No. AE2-212 to be effective 8/3/2022.

Filed Date: 9/1/22.

Accession Number: 20220901-5096.

Comment Date: 5 p.m. ET 9/22/22.

Docket Numbers: ER22-2768-000.

Applicants: Midcontinent Independent System Operator, Inc., Missouri Joint Municipal Electric Utility Commission.

Description: § 205(d) Rate Filing: Midcontinent Independent System Operator, Inc. submits tariff filing per 35.13(a)(2)(iii: 2022-09-01_Tariff Revisions to Incorporate Formula Rate for MJMEUC to be effective 12/31/9998.

Filed Date: 9/1/22.

Accession Number: 20220901-5097.

Comment Date: 5 p.m. ET 9/22/22.

Docket Numbers: ER22-2770-000.

Applicants: Georgia Power Company, Mississippi Power Company, Alabama Power Company.

Description: § 205(d) Rate Filing: Georgia Power Company submits tariff filing per 35.13(a)(2)(iii: PEHA bn (Pepper Hammock II Solar) LGIA Filing to be effective 8/26/2022.

Filed Date: 9/1/22.

Accession Number: 20220901-5111.

Comment Date: 5 p.m. ET 9/22/22.

Docket Numbers: ER22-2771-000.

Applicants: PacifiCorp.

Description: § 205(d) Rate Filing: City of Hurricane Load Service Contract to be effective 9/1/2022.

Filed Date: 9/1/22.

Accession Number: 20220901-5124.

Comment Date: 5 p.m. ET 9/22/22.

Docket Numbers: ER22-2772-000.

Applicants: Consolidated Edison Company of New York, Inc.

Description: § 205(d) Rate Filing: RC CDG rule changes 9-1-2022 to be effective 9/1/2022.

Filed Date: 9/1/22.

Accession Number: 20220901-5127.

Comment Date: 5 p.m. ET 9/22/22.

Docket Numbers: ER22-2773-000.

Applicants: Smoky Mountain Transmission LLC.

Description: § 205(d) Rate Filing: Amended Interconnection Agreement to be effective 9/2/2022.

Filed Date: 9/1/22.

Accession Number: 20220901-5163.

Comment Date: 5 p.m. ET 9/22/22.

Docket Numbers: ER22-2774-000.

Applicants: Gibson City Energy Center, LLC.

Description: § 205(d) Rate Filing: Normal filing 2022 to be effective 10/31/2022.

Filed Date: 9/1/22.

Accession Number: 20220901-5187.

Comment Date: 5 p.m. ET 9/22/22.

Docket Numbers: ER22-2775-000.

Applicants: PacifiCorp, Sierra Pacific Power Company, Nevada Power Company.

Description: Joint Petition for Limited Waiver of PacifiCorp, et al.

Filed Date: 9/1/22.

Accession Number: 20220901-5190.

Comment Date: 5 p.m. ET 9/8/22.

Docket Numbers: ER22-2776-000.

Applicants: Shelby County Energy Center, LLC.

Description: § 205(d) Rate Filing: Reactive rates Normal filing 2022 to be effective 10/31/2022.

Filed Date: 9/1/22.

Accession Number: 20220901-5197.

Comment Date: 5 p.m. ET 9/22/22.

Docket Numbers: ER22-2777-000.

Applicants: Tilton Energy LLC.

Description: § 205(d) Rate Filing: Normal filing 2022 to be effective 10/31/2022.

Filed Date: 9/1/22.

Accession Number: 20220901-5201.

Comment Date: 5 p.m. ET 9/22/22.

Docket Numbers: ER22-2778-000.

Applicants: Puget Sound Energy, Inc.

Description: § 205(d) Rate Filing: Cert of Concurrence to the LGIA between Northwestern Corp and others to be effective 8/18/2022.

Filed Date: 9/1/22.

Accession Number: 20220901-5214.

Comment Date: 5 p.m. ET 9/22/22.

Take notice that the Commission received the following electric securities filings:

Docket Numbers: ES22-64-000.

Applicants: Evergy Missouri West, Inc.

Description: Application Under Section 204 of the Federal Power Act for Authorization to Issue Securities of Evergy Missouri West, Inc.

Filed Date: 9/1/22.

Accession Number: 20220901-5162.

Comment Date: 5 p.m. ET 9/22/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 1, 2022.
Debbie-Anne A. Reese,
Deputy Secretary.

[FR Doc. 2022-19389 Filed 9-7-22; 8:45 am]

BILLING CODE 6717-01-P